CORPORATION FOR NATIONAL AND COMMUNITY SERVICE

Information Collection; Submission for OMB Review, Comment Request

AGENCY: Corporation for National and Community Service.

ACTION: Notice.

SUMMARY: The Corporation for National and Community Service (“Corporation”), has submitted a public information collection request (ICR) entitled CNCS Application Instructions and Reporting Questions for review and approval in accordance with the Paperwork Reduction Act of 1995, Public Law 104-13, (44 U.S.C. Chapter 35). Copies of this ICR, with applicable supporting documentation, may be obtained by calling the Corporation for National and Community Service, Ms. Amy Borgstrom at (202) 606-6930. Individuals who use a telecommunications device for the deaf (TTY-TDD) may call (202) 565-2799 between 8:30 a.m. and 5 p.m. Eastern Time, Monday through Friday.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: (202) 395-6974, Attention: Ms. Sharon Mar, OMB Desk Officer for the Corporation for National and Community Service; and

(2) Electronically by email to: smar@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

A 60-day public comment Notice was published in the Federal Register on September 7, 2011. This comment period ended November 8, 2011. No public comments were received from this Notice.

Description: The Corporation is soliciting comments concerning application instructions designed to be used for grant competitions which the Corporation sponsors from time to time. These competitions are designed and conducted, when appropriations are available, to address the Corporation's strategic plan focus areas or other priorities. Applicants will respond to the questions included in these instructions in order to apply for funding in these Corporation competitions. Successful applicants will report on an annual basis on their progress using the attached Annual Reporting Questions. Their Annual Reports will provide information for Corporation staff to monitor grantee progress, and to respond to requests from Congress and other stakeholders.

Type of Review: Renewal.

Agency: Corporation for National and Community Service.

Title: CNCS Application Instructions and Reporting Questions.

OMB Number: 3045-0129.

Agency Number: Potential beneficiaries.

Total Respondents: 2,000 applicants and 200 successful applicants.

Frequency: Annually.

Average Time Per Response: 8 hours to apply and 8 hours to report.

Estimated Total Burden Hours: 17,600 hours.

Total Burden Cost (capital/startup): None.

Total Burden Cost (operating/maintenance): None.

Dated: November 21, 2011.
Idara Nickelson,
Chief of Program Operations.

[FR Doc. 2011-30616 Filed 11-28-11; 8:45 am]

BILLING CODE 6050-$$-P